DEPARTMENT OF ENERGY

Federal Energy Regulatory Commission

Combined Notice of Filings

Take notice that the Commission has received the following Natural Gas Pipeline Rate and Refund Report filings:

Filings Instituting Proceedings

Docket Numbers: PR24-82-000.

Applicants: EnLink LIG, LLC.

Description: § 284.123(g) Rate Filing: SOC changes 2024 to be effective 8/1/2024.

Filed Date: 6/28/24.

Accession Number: 20240628-5250.

Comment Date: 5 p.m. ET 7/19/24.

§ 284.123(g) Protest: 5 p.m. ET 8/27/24.

Docket Numbers: RP24-862-000.

Applicants: Northern Natural Gas Company.

Description: § 4(d) Rate Filing: 20240628 Negotiated Rate to be effective 7/1/2024.

Filed Date: 6/28/24.

Accession Number: 20240628-5246.

Comment Date: 5 p.m. ET 7/10/24.

Docket Numbers: RP24-863-000.

Applicants: Alliance Pipeline L.P.

Description: § 4(d) Rate Filing: Negotiated rates—Various July 1, 2024, Releases to be effective 7/1/2024.

Filed Date: 6/28/24.

Accession Number: 20240628-5259.

Comment Date: 5 p.m. ET 7/10/24.

Docket Numbers: RP24-864-000.

Applicants: Sabine Pipe Line LLC.

Description: Compliance filing: Compliance July 2024 to be effective 7/1/2024.

Filed Date: 6/28/24.

Accession Number: 20240628-5266.

Comment Date: 5 p.m. ET 7/10/24.

Docket Numbers: RP24-866-000.

Applicants: Trailblazer Pipeline Company LLC.

Description: § 4(d) Rate Filing: TPC 2024-06-28 Trailblazer Conversion Project (CP22-468) Implementation to be effective 8/1/2024.

Filed Date: 6/28/24.

Accession Number: 20240628-5324.

Comment Date: 5 p.m. ET 7/10/24.

Docket Numbers: RP24-867-000.

Applicants: Tennessee Gas Pipeline Company, L.L.C.

Description: § 4(d) Rate Filing: TGP Clean Up Filing June 28, 2024 to be effective 7/31/2024.

Filed Date: 6/28/24.

Accession Number: 20240628-5331.

Comment Date: 5 p.m. ET 7/10/24.

Docket Numbers: RP24-868-000.

Applicants: Mountain Valley Pipeline, LLC.

Description: § 4(d) Rate Filing: July 2024 Clean-Up Filing to be effective 8/1/2024.

Filed Date: 7/1/24.

Accession Number: 20240701-5002.

Comment Date: 5 p.m. ET 7/15/24.

Docket Numbers: RP24-869-000.

Applicants: MIGC LLC.

Description: § 4(d) Rate Filing: Annual Fuel Filing to be effective 8/1/2024.

Filed Date: 7/1/24.

Accession Number: 20240701-5080.

Comment Date: 5 p.m. ET 7/15/24.

Docket Numbers: RP24-870-000.

Applicants: Crossroads Pipeline Company.

Description: § 4(d) Rate Filing: Penalty Revenue Crediting Report—Change in Tariff to be effective 8/1/2024.

Filed Date: 7/1/24.

Accession Number: 20240701-5110.

Comment Date: 5 p.m. ET 7/15/24.

Docket Numbers: RP24-871-000.

Applicants: Portland Natural Gas Transmission System.

Description: § 4(d) Rate Filing: Castleton Negotiated Rate Agreement #299643 to be effective 7/1/2024.

Filed Date: 7/1/24.

Accession Number: 20240701-5120.

Comment Date: 5 p.m. ET 7/15/24.

Docket Numbers: RP24-872-000.

Applicants: Gulf South Pipeline Company, LLC.

Description: § 4(d) Rate Filing: Amendment to Neg Rate Agmt (Calyx 51780) to be effective 7/1/2024.

Filed Date: 7/1/24.

Accession Number: 20240701-5133.

Comment Date: 5 p.m. ET 7/15/24.

Docket Numbers: RP24-873-000.

Applicants: Mountain Valley Pipeline, LLC.

Description: § 4(d) Rate Filing: Negotiated Rate Capacity Releases— 7/1/2024 to be effective 7/1/2024.

Filed Date: 7/1/24.

Accession Number: 20240701-5138.

Comment Date: 5 p.m. ET 7/15/24.

Docket Numbers: RP24-874-000.

Applicants: El Paso Natural Gas Company, L.L.C.

Description: § 4(d) Rate Filing: Negotiated Rate Agreement Update (TMV July-Sept 2024) to be effective 7/1/2024.

Filed Date: 7/1/24.

Accession Number: 20240701-5172.

Comment Date: 5 p.m. ET 7/15/24.

Docket Numbers: RP24-875-000.

Applicants: Gulf South Pipeline Company, LLC.

Description: § 4(d) Rate Filing: Cap Rel Neg Rate Agmt (Calyx 51780 to BP 57121) to be effective 7/1/2024.

Filed Date: 7/1/24.

Accession Number: 20240701-5176.

Comment Date: 5 p.m. ET 7/15/24.

Docket Numbers: RP24-876-000.

Applicants: El Paso Natural Gas Company, L.L.C.

Description: § 4(d) Rate Filing: Negotiated Rate Agreement Filing (Chevron) to be effective 7/1/2024.

Filed Date: 7/1/24.

Accession Number: 20240701-5178.

Comment Date: 5 p.m. ET 7/15/24.

Docket Numbers: RP24-877-000.

Applicants: Rover Pipeline LLC.

Description: § 4(d) Rate Filing: Summary of Negotiated Rate Capacity Release Agreements 7-1-2024 to be effective 7/1/2024.

Filed Date: 7/1/24.

Accession Number: 20240701-5189.

Comment Date: 5 p.m. ET 7/15/24.

Docket Numbers: RP24-878-000.

Applicants: Transcontinental Gas Pipe Line Company, LLC.

Description: § 4(d) Rate Filing: GT&C Section 43—SMG—Operational Conditions to be effective 8/1/2024.

Filed Date: 7/1/24.

Accession Number: 20240701-5203.

Comment Date: 5 p.m. ET 7/15/24.

Docket Numbers: RP24-879-000.

Applicants: Texas Eastern Transmission, LP.

Description: § 4(d) Rate Filing: Negotiated Rates—NJR eff 7-1-24 to be effective 7/1/2024.

Filed Date: 7/1/24.

Accession Number: 20240701-5208.

Comment Date: 5 p.m. ET 7/15/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP22-1001-000.

Applicants: Eastern Gas Transmission and Storage, Inc.

Description: Report Filing: EGTS—Operational Gas Sales Report—2024 to be effective N/A.

Filed Date: 6/27/24.

Accession Number: 20240627-5029.

Comment Date: 5 p.m. ET 7/9/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 1, 2024.
Debbie-Anne A. Reese,
Acting Secretary.

[FR Doc. 2024-14950 Filed 7-8-24; 8:45 am]

BILLING CODE 6717-01-P